DEPARTMENT OF LABOR

Employment and Training Administration

Proposed Collection; Comment Request

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the Job Corps Enrollee Allotment Determination. A copy of the proposed information collection request (ICR) can be obtained by contacting the office listed below in the addressee section of this notice or at this Web site: http://www.doleta.gov/OMBCN/OMBControlNumber.cfm

DATES: Written comments must be submitted to the office listed in the addressee section below on or before June 4, 2007.

ADDRESSES: Send comments to Chris Conboy, Office of Job Corps, U.S. Department of Labor, 200 Constitution Ave., NW., Washington, DC 20210. Phone (202) 693-3093 (This is not a toll-free number.), fax (202) 693-2767 or e-mail Conboy.chris@dol.gov.

SUPPLEMENTARY INFORMATION:

I. Background

The Job Corps program, as authorized by the Workforce Investment Act (WIA) of 1998, is designed to serve low-income young women and men, 16 through 24, who are in need of additional career technical, educational and social skills training, and other support services in order to gain meaningful employment, return to school or enter the Armed Forces. Job Corps is operated by the Department of Labor through a nationwide network of 122 Job Corps centers. The program is primarily a residential program operating 24 hours per day, 7 days per week, with non-resident enrollees limited by legislation to 20 percent of national enrollment. These centers presently accommodate more than 60,000 students. To ensure that the centers are filled with youth who are low-income as well as capable of and committed to doing the work necessary to achieve the benefits of Job Corps, certain eligibility requirements have been established by the legislation.

The purpose of this collection is to provide a vehicle to make allotments available to students who both desire an allotment and have a qualifying dependent. The is completed by the Job Corps admissions counselors or center staff and signed by the student during a personal interview.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension of Currently Approved Collection.

Agency: Employment and Training Administration.

Title: Job Corps Enrollee Allotment Determination.

OMB Number: 1205-0030.

Agency Number: ETA-658.

Recordkeeping: The applicant is not required to retain records; admissions counselors or contractor main offices are required to retain records of applicants who enroll in the program for three years from the date of application.

Frequency: Annually.

Affected Public: Individuals or households, Federal Government.

Total Respondents: 1,100.

Average Time per Response: 3 minutes.

Estimated Total Burden Hours: 55 hours.

Total Burden Cost (capital/startup): 0.

Total Burden Cost (operating/maintaining): $283.25.

Comments submitted in response to this comment request will be summarized and/or included in the request for Office of Management and Budget approval of the information collection request; they will also become a matter of public record.

Dated: March 26, 2007.
Esther R. Johnson,
National Director, Office of Job Corps.

[FR Doc. E7-6132 Filed 4-2-07; 8:45 am]

BILLING CODE 4510-30-P